DEPARTMENT OF THE INTERIOR

Bureau of Land Management

[NV-030-00-1020-24]

Sierra Front/Northwestern Great Basin Resource Advisory Council; Notice of Meeting Location and Time

AGENCY: Bureau of Land Management, Interior.

ACTION: Notice of meeting location and time for the Sierra Front/Northwestern Great Basin Resource Advisory Council (Nevada).

SUMMARY: In accordance with the Federal Land Policy and Management Act and the Federal Advisory Committee Act of 1972 (FACA), the U.S. Department of the Interior, Bureau of Land Management (BLM) Sierra Front/Northwestern Great Basin Resource Advisory Council (Nevada) will be held as indicated below. Topics for discussion will include issues related to the BLM geothermal resource leasing program in Nevada; a review of the BLM Nevada program for emergency fire rehabilitation; the BLM Great Basin Restoration Initiative; BLM management actions in support of recovery efforts for the Sage Grouse; BLM NV wild horse and burro gather strategy for FY2000 and beyond; collaborative BLM/Carson City management plan for the Silver Saddle Ranch; and other topics the council may raise. No field trip is planned as part of this two day meeting.

All meetings are open to the public. The public may present written and/or comments to the council. The public comment period for the council meeting will be at 4 p.m. on Monday, May 1st. The agenda will be available on the internet by April 12, 2000, at www.nv.blm.gov/rac; hard copies can also be mailed or sent via FAX. Individuals who plan to attend and need special assistance such as sign language interpretation or other reasonable accommodations, or who desire a hard copy of the agenda, should contact Mark Struble, Carson City Field Office, 5665 Morgan Mill Road, Carson City, NV 89701, telephone (775) 885-6107 no later than April 19, 2000.

DATES & TIMES: The council will meet on Monday, May 1, 2000, from 10 a.m. to 5 p.m. and Tuesday, May 2, 2000, from 8 a.m. to 3:30 p.m., in the Main Conference Room of the BLM Carson City Field Office, 5665 Morgan Mill Road, Carson City, NV 89701. Public comment on individual topics will be received at the discretion of the Council Chairperson, as meeting moderator, with a general public comment period on Monday, May 1, 2000, at 4 p.m.

FOR FURTHER INFORMATION CONTACT: Mark Struble, Public Affairs Officer, Carson City Field Office, 5665 Morgan Mill Road, Carson City, NV 89701. Telephone (775) 885-6107.

Date: April 3, 2000.
John O. Singlaub,
Manager, Carson City Field Office.

[FR Doc. 00-9225 Filed 4-12-00; 8:45 am]

BILLING CODE 4310-HC-U